DEPARTMENT OF COMMERCE

Foreign-Trade Zones Board

[Order No. 2056]

Additional Production Authority Not Approved; The Coleman Company, Inc.; Subzone 119I (Textile-Based Personal Flotation Devices); Sauk Rapids, Minnesota

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, The Coleman Company, Inc., operator of Subzone 119I, has requested additional production authority for its facility in Sauk Rapids, Minnesota, (B-53-2015, docketed August 12, 2015);

Whereas, notice inviting public comment has been given in the Federal Register (80 FR 49986, August 18, 2015; 80 FR 61792, October 14, 2015; 80 FR 68504, November 5, 2015; 80 FR 74754-74755, November 30, 2015; 80 FR 79820, December 23, 2015; 81 FR 8173, February 18, 2016; 82 FR 27039, June 13, 2017; 82 FR 39982, August 23, 2017) and the application has been processed pursuant to the FTZ Act and the Board's regulations; and,

Whereas, the Board adopts the findings and recommendations of the examiner's report, and finds that the requirements of the FTZ Act and the Board's regulations have not been satisfied;

Now, therefore, the Board hereby does not approve the application requesting additional production authority under zone procedures within Subzone 119I at the facility of The Coleman Company, Inc., located in Sauk Rapids, Minnesota, as described in the application and Federal Register notice.

Dated: August 16, 2018.
Gary Taverman,
Deputy Assistant Secretary for Antidumping and Countervailing Duty Operations, performing the non-exclusive functions and duties of the Assistant Secretary for Enforcement and Compliance Alternate Chairman, Foreign-Trade Zones Board.

[FR Doc. 2018-18094 Filed 8-21-18; 8:45 am]

BILLING CODE 3510-DS-P